DEPARTMENT OF ENERGY

Federal Energy Regulatory Commission

[Project No. 1390-040]

Southern California Edison Company; Notice of Settlement Agreement and Soliciting Comments

February 11, 2005.

Take notice that the following Settlement Agreement has been filed with the Commission and is available for public inspection.

a. Type of Application: Settlement Agreement.

b. Project No.: 1390-040.

c. Date Filed: February 4, 2005.

d. Applicant: Southern California Edison Company.

e. Name of Project: Lundy Project.

f. Location: On Mill Creek in Mono County, California. The project is located partly on lands in the Inyo National Forest and on land administered by the Bureau of Land Management.

g. Filed Pursuant to: Rule 602 of the Commission's Rules of Practice and Procedure, 18 CFR 385.602.

h. Applicant Contact: Mr. Nino J. Mascolo, Southern California Edison Company, P.O. Box 800, 2244 Walnut Grove Avenue, Rosemead, CA 91770, (626) 302-4459.

i. FERC Contact: John Smith, telephone (202) 502-8972, e-mail john.smith@ferc.gov.

j. Deadline for filing comments: 90 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular agency, they must also serve a copy of the document on that resource agency.

Comments may be filed electronically via the Internet in lieu of paper. The Commission strongly encourages electronic filings. See 18 CFR 385.2001(a)(1)(iii) and the instructions on the Commission's Web site (http://www.ferc.gov) under the “eFiling” link.

k. Description of filing: Southern California Edison Company filed the Settlement Agreement on behalf of itself and the U.S. Department of Agriculture, Forest Service; the U.S. Department of the Interior, Bureau of Land Management; the California Department of Fish and Game; American Rivers; California Trout; and the Mono Lake Committee. The purposes of the Settlement Agreement are to resolve among the signatories: (1) The issues raised by the signatories in their respective requests for rehearing of the order issuing new license (86 FERC ¶ 61,230); and (2) the issue raised by the People for Mono Basin Preservation and Mono County with regard to the claims that the minimum flow schedule required by article 404 of the license would interfere with the Wilson Creek water rights. The signatories request that the Commission adopt in whole, without material modification, the Offer of Settlement. Specifically, the signatories request that the Commission replace existing license articles 403, 404, 411, 412, and 417 with conditions included in Appendix A of the Settlement Agreement and delete license article 414.

l. A copy of the Settlement Agreement is available for review at the Commission in the Public Reference Room or may be viewed on the Commission's Web site at http://www.ferc.gov using the “eLibrary” link. Enter the docket number excluding the last three digits in the docket number field to access the document. For assistance, contact FERC Online Support at FERCOnlineSupport@ferc.gov or toll free at 1-866-208-3676, or for TTY, contact (202) 502-8659. A copy is also available for inspection and reproduction at the address in item h above.

You may also register online at http://www.ferc.gov/docs-filing/esubscription.asp to be notified via email of new filings and issuances related to this or other pending projects. For assistance, contact FERC Online Support.

Magalie R. Salas,
Secretary.

[FR Doc. E5-677 Filed 2-17-05; 8:45 am]

BILLING CODE 6717-01-P